DEPARTMENT OF COMMERCE

Foreign-Trade Zones Board

[Order No. 1443]

Expansion of Foreign-Trade Zone 94, Laredo, Texas Area

Pursuant to its authority under the Foreign-Trade Zones Act of June 18, 1934, as amended (19 U.S.C. 81a-81u), the Foreign-Trade Zones Board (the Board) adopts the following Order:

Whereas, the City of Laredo, Texas, grantee of Foreign-Trade Zone No. 94, submitted an application to the Board for authority to expand FTZ 94 in the Laredo, Texas area, to include a site within the Embarcadero Business Park, within the Laredo Customs port of entry (FTZ Docket 19-2005, filed 5/9/2005);

Whereas, notice inviting public comment was given in the Federal Register (70 FR 25536, 5/13/2005) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 94 is approved, subject to the Act and the Board's regulations, including Section 400.28, and further subject to the Board's standard 2,000-acre activation limit for the general-purpose zone project.

Signed at Washington, DC, this 5th day of April 2006.

David M. Spooner,
Assistant Secretary of Commerce for Import Administration, Alternate Chairman, Foreign-Trade Zones Board.
Attest:
Dennis Puccinelli,
Executive Secretary.

[FR Doc. E6-5675 Filed 4-12-06; 8:45 am]

Billing Code: 3510-DS-S